DEPARTMENT OF TRANSPORTATION

Surface Transportation Board

[Docket No. FD 35786]

CaterParrott Railnet, LLC—Change in Operators Exemption—Rail Lines of Central of Georgia Railroad Company

CaterParrott Railnet, LLC (CPR), a Class III rail carrier, has filed a verified notice of exemption under 49 CFR 1150.41 to change operators from Squaw Creek Southern Railroad, Inc. (SCS), to CPR on the following rail lines located in Georgia and owned by Central of Georgia Railroad Company (CGR), a wholly owned subsidiary of Norfolk Southern Railway Company: (1) Approximately 21.75 miles of rail line between milepost F-53.75 at Machen, Jasper County, and milepost F-75.5 at Madison, Morgan County; ¹ and (2) approximately 12.5 miles of rail line between milepost E-53.3 at Machen, Jasper County, and milepost E-65.8 at Newborn, Newton County.²

¹ SCS obtained Board authority to lease and operate this line in 2008. Squaw Creek S. R.R.—Lease & Operation Exemption—Cent. of Ga. R.R., FD 35134 (STB served May 16, 2008).

² SCS obtained Board authority to lease and operate this line in 2009. Squaw Creek S. R.R.—Lease & Operation Exemption—Cent. of Ga. R.R., FD 35294 (STB served Sept. 17, 2009).

According to CPR, an agreement has been reached between the parties under which CPR will lease and operate the lines. CPR will accept transfer and/or assignment of SCS's common carrier obligation. SCS has agreed to terminate its lease with CGR. CPR states that its proposed lease of the lines does not contain a provision that prohibits, restricts, or would otherwise limit future interchange of traffic with any third-party rail carrier. This change in operators is exempt under 49 CFR 1150.41(c).³

³ Under 49 CFR 1150.42(b), a change in operators requires that notice be given to shippers. CPR certifies that notice has been given to all known shippers on the lines.

The transaction may be consummated on or after December 29, 2013 (30 days after the notice of exemption was filed).

CPR certifies that its projected annual revenues as a result of this transaction will not result in CPR's becoming a Class I or Class II rail carrier and will not exceed $5 million.

If the verified notice contains false or misleading information, the exemption is void ab initio. Petitions to revoke the exemption under 49 U.S.C. 10502(d) may be filed at any time. The filing of a petition to revoke will not automatically stay the effectiveness of the exemption. Petitions for stay must be filed no later than December 20, 2013 (at least 7 days before the exemption becomes effective).

An original and 10 copies of all pleadings, referring to Docket No. FD 35786, must be filed with the Surface Transportation Board, 395 E Street SW., Washington, DC 20423-0001. In addition, one copy of each pleading must be served on Chris Parrott, CaterParrott Railnet, LLC, 700 East Marion Avenue, Nashville, GA 31639.

Board decisions and notices are available on our Web site at www.stb.dot.gov.

Decided: December 9, 2013.
By the Board, Rachel D. Campbell, Director, Office of Proceedings.
Jeffrey Herzig,
Clearance Clerk.

[FR Doc. 2013-29753 Filed 12-12-13; 8:45 am]

BILLING CODE 4915-01-P